DEPARTMENT OF HEALTH AND HUMAN SERVICES

National Institutes of Health

Center for Scientific Review; Amended Notice of Meeting

Notice is hereby given of a change in the meeting of the Center for Scientific Review Special Emphasis Panel, November 15, 2001, 8:30 a.m. to November 16, 2001, 4 p.m., Embassy Square, 2000 N Street, NW., Washington, DC 20036 which was published in the Federal Register on October 26, 2001, 66 FR 54269-54271.

The meeting will be held at the Westin Grand Hotel, 2350 M Street, NW., Washington, DC 20037. The time and dates remain the same. The meeting is closed to the public.

Dated: November 2, 2001.
LaVerne Y. Stringfield,
Director, Office of Federal Advisory Committee Policy.

[FR Doc. 01-28315 Filed 11-9-01; 8:45 am]

BILLING CODE 4140-01-M